COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) and service(s) previously furnished by such agencies.

DATES: Comments must be received on or before: August 8, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service Type: Fourth-Party Logistics (4PL) of Personal Protective Equipment Safety Stock

Mandatory for: Department of Homeland Security, Departmental Operations Acquisition Division

Designated y Source of Supply: National Industries for the Blind, Alexandria, VA

Contracting Activity: Department of Homeland Security, Departmental Operations Acquisition Division

Deletions

The following product(s) and service(s) are proposed for deletion from the Procurement List:

Product(s)

NSN(s)—Product Name(s): 7520-01-383-7929—Marker, Tube Type, Highlighter, Chisel Tip, Magenta

Designated Source of Supply: Dallas Lighthouse for the Blind, Inc., Dallas, TX

Contracting Activity: GSA/FAS ADMIN SVCS ACQUISITION BR(2, NEW YORK, NY

Service(s)

Service Type: Document Destruction

Mandatory for: Defense Logistics Agency, Defense Supply Center, Columbus, OH, 3990 East Broad Street, Columbus, OH

Mandatory Source of Supply: Greene, Inc., Xenia, OH

Contracting Activity: DEFENSE LOGISTICS AGENCY, DCSO COLUMBUS

Michael R. Jurkowski,
Deputy Director, Business & PL Operations.

[FR Doc. 2021-14635 Filed 7-8-21; 8:45 am]

BILLING CODE 6353-01-P